DEPARTMENT OF JUSTICE

Notice of Lodging of Consent Decree Pursuant to the Comprehensive Environmental Response, Compensation and Liability Act

Notice is hereby given that on July 11, 2001, the United States lodged a proposed Second Amendment to the Consent Decree with the United States District Court for the Northern District of Illinois, Western Division, in United States, et al. v. City of Rockford, Illinois, Civil No. 98C50026 (N.D. Ill.), under the Comprehensive Environmental Response, Compensation and Liability Act, as amended (“CERCLA”), 42 U.S.C. 9601 et seq. The proposed Second Amendment to the Consent Decree modifies the Amended Consent Decree entered by the United States District Court for the Northern District of Illinois on or about January 13, 1999, which resolved certain claims of the United States and the State of Illinois against the City of Rockford, Illinois, under sections 106(a) and 107(a) of CERCLA, 42 U.S.C. 9606(a) and 9607(a), pertaining to the Southeast Rockford Groundwater Contamination (the “Site”) located in Rockford, Winnebago County, Illinois, In that Amended Consent Decree, the City of Rockford reaffirmed the terms and conditions of the original Consent Decree entered by the Court on or about April 9, 1998, to perform the remedial action selected by U.S. EPA in its September 30, 1995, Record of Decision and to reimburse certain costs incurred by Plaintiffs at the Site. The Amended Consent Decree resolved additional claims of the Plaintiffs against the City of Rockford, and resolved potential claims of the Plaintiffs against certain Covenant Beneficiaries. As specified in the Amended Consent Decree, the City of Rockford and Covenant Beneficiaries received covenants not to sue and contribution protection.

The Second Amendment to the Consent Decree adds 11 parties who will participate in the settlement by paying an aggregate sum of $142,001.59 to the City of Rockford to be paid to the Plaintiffs, to reimburse certain costs incurred by the Plaintiffs at the Site, and by executing and transmitting Covenant Beneficiary Forms. The settlement resolves potential claims of the Plaintiffs against these added Covenant Beneficiaries, who will receive the covenants not to sue and contribution protection provided to such parties in the Amended Consent Decree. All other provisions of the Amended Consent Decree and original Consent Decree not modified by the Second Amendment to the consent Decree remain in full force and effect.

The Department of Justice also provides notice that under section 7003(d) of the Resource Conservation and Recovery Act (“RCRA”), 42 U.S.C. 6973(d), the public may request an opportunity for a public meeting at which time they may offer comment. The Department of Justice will receive, for a period of thirty (30) days from the date of this publication, comments relating to the proposed Second Amendment to the Consent Decree. Comments should be addressed to the Assistant Attorney General, Environment and Natural Resources Division, United States Department of Justice, Washington, DC 20530, and should refer to United States et al. v. City of Rockford, Illinois, Civil No. 98C50026 (N.D. Ill.), and DOJ Reference No. 90-11-3-945.

The proposed consent decree may be examined at: (1) The Office of the United States Attorney for the Northern District of Illinois, Western Division, 308 West State St., Suite 300, Rockford, Illinois 61101 (815-987-4444); and (2) the United States Environmental Protection Agency (Region 5), 77 West Jackson Boulevard, Chicago, Illinois 60604-3590 (contact: Thomas Turner (312) 886-6613). A copy of the proposed Second Amendment to the Consent Decree may be obtained by mail from the Consent Decree Library, U.S. Department of Justice, P.O. Box 7611, Washington, DC 20044-7611. In requesting a copy, please refer to the referenced case and DOJ Reference Number and enclose a check in the amount of $3.00 for the consent decree and one appendix only (12 pages at 25 cents per page reproduction costs), or $19.50 for the consent decree, appendix and 11 covenant beneficiary forms (78 pages), made payable to the Consent Decree Library.

William D. Brighton,
Assistant Chief, Environmental Enforcement Section, Environment and Natural Resources Division.

[FR Doc. 01-18081 Filed 7-18-01; 8:45 am]

BILLING CODE 4410-15-M